DEPARTMENT OF AGRICULTURE

Farm Service Agency

Request for Approval of a New Information Collection; Qualification Requirement

AGENCY: Farm Service Agency, Agriculture.

ACTION: Notice and request for comment.

SUMMARY: In accordance with the Paperwork Reduction Act of 1995 (PRA), the United States Department of Agriculture (USDA), Farm Service Agency (FSA), Kansas City Commodity Office (KCCO) is seeking comments from all interested individuals and organizations regarding an information collection needed by KCCO to qualify potential new vendors prior to allowing a vendor to submit an offer for Invitations for Bids. The qualification is a one-time collection for each new potential vendor. The qualification requirement is a reexamination and revalidation of established qualifications as required by the Federal Acquisition Regulation (FAR), and is necessary for KCCO to carry out its procurement mission. This information is needed by KCCO for compliance with FAR Responsible Prospective Contractors and Qualification Requirement.

DATES: Comments on this notice must be received on or before June 14, 2004, to be assured consideration.

FOR FURTHER INFORMATION CONTACT: Comments regarding this information collection requirement may be directed to Donna Ryles, Chief, Planning and Analysis Division, Kansas City Commodity Office (KCCO), 6501 Beacon Drive, Kansas City, Missouri 64133-4676, telephone (816) 926-6509 or fax (816) 926-1648; e-mail DGRYLES@KCC.FSA.USDA.GOV.

SUPPLEMENTARY INFORMATION: Title: Qualification Requirement.

OMB Control Number: 0560-NEW.

Type of Request: Approval of a New Information Collection.

Abstract: KCCO issues Invitations for Bids for the purchase of various commodities on a daily, monthly, multi-month, quarterly and yearly basis. Vendors respond by making offers. In order for KCCO to carry out its procurement mission, all new prospective bidders that want to submit a bid on contracts procured under USDA or CCC authorities, must be qualified prior to submitting any offers for Invitations for Bid. This collection of qualification information is mandatory from all interested potential vendors. New vendors must fully complete and provide all of the required qualification information. Qualification of vendors allows for more timely awards, since bid acceptance periods are very short and food safety issues are addressed in advance of bidding. The qualification package includes a review of the vendor's financial statements, credit report, and past activity and experience with the commodity that they are proposing to offer.

KCCO contracting officers will review the information and make a determination if the vendor is a qualified bidder. After a vendor has been qualified by KCCO, they will be included on the Qualified Bidders List. No bid will be accepted from a potential vendor that has failed to comply with the requirements. New potential vendors who submit a complete qualification package will be notified in writing of their status along with any necessary explanation or action that is deemed necessary.

Estimate of Burden: Public reporting burden for this collection is estimated to average 40 minutes per response.

Respondents: New Potential Vendors.

Estimated Number of Respondents: 45.

Estimated Number of Responses per Respondent: 2.

Estimated Total Annual Burden on Respondents: 78.

Proposed topics for comment include: (a) Whether the continued collection of information is necessary for the proper performance of the functions of the agency, including whether the information will have practical utility; (b) the accuracy of FSA's estimate of burden including the validity of the methodology and assumptions used; (c) enhancing the quality, utility, and clarity of the information collected; or (d) minimizing the burden of the collection of the information on those who are to respond, including through the use of appropriate automated, electronic, mechanical, or other technological collection techniques or other forms of information technology. Comments should be directed to the Office of Information and Regulatory Affairs of OMB, Attention: Desk Officer for USDA, Washington, DC 20503, and to Donna Ryles, Chief, Planning and Analysis Division, Kansas City Commodity Office, 6501 Beacon Drive, Kansas City, Missouri 64133-4676. All comments will become a matter of public record.

OMB is required to make a decision concerning the collection(s) of information contained in these proposed regulations between 30 and 60 days after publication of this document in the Federal Register. Therefore, a comment to OMB is best assured of having its full effect if OMB receives it within 30 days of publication.

Signed at Washington, DC, on April 5, 2004.
Verle E. Lanier,
Acting Administrator, Farm Service Agency.

[FR Doc. 04-8447 Filed 4-13-04; 8:45 am]

BILLING CODE 3410-05-P